DEPARTMENT OF COMMERCE

International Trade Administration

[A-821-802]

Uranium From Russia; Corrected Continuation of Suspended Antidumping Duty Investigation

AGENCY: Import Administration, International Trade Administration, Department of Commerce.

ACTION: Notice of Correction to Continuation of Suspended Antidumping Duty Investigation: Uranium from Russia.

SUMMARY: On August 22, 2000, the Department of Commerce (``the Department'') published in the Federal Register the continuation of the suspended antidumping duty investigation on uranium from Russia.¹ Subsequent to the publication of the final results, we identified an inadvertent error in the “Determination” section of the notice. Therefore, we are correcting this inadvertent error.

¹ See Continuation of Suspended Antidumping Duty Investigation: Uranium from Russia, 65 FR 50958 (August 22, 2000).

The error lies in the second sentence of the determination section: “The Department will instruct the U.S. Customs Service to continue to collect antidumping duty deposits at the rates in effect at the time of entry for all imports of subject merchandise.” ² This sentence should be deleted.

² Id.

Effective Date: August 22, 2000.

For Further Information Contact: Kathryn B. McCormick or James Maeder, Office of Policy for Import Administration, International Trade Administration, U.S. Department of Commerce, 14th Street and Constitution Avenue, NW, Washington, DC 20230: telephone (202) 482-1930 and (202) 482-3330, respectively.

This correction is issued and published in accordance with sections 751(h) and 777(i) of the Act.
Dated: August 23, 2000.
Troy H. Cribb,
Acting Assistant Secretary for Import Administration.

[FR Doc. 00-22072 Filed 8-28-00; 8:45 am]

BILLING CODE 3510-DS-P